DEPARTMENT OF THE TREASURY

Submission for OMB Review; Comment Request

January 31, 2003.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before March 10, 2003 to be assured of consideration.

Internal Revenue Service (IRS)

OMB Number: 1545-1191.

Regulation Project Number: INTL-868-89 Final.

Type of Review: Extension.

Title: Information with Respect to Certain Foreign-Owned Corporations.

Description: The regulations require record maintenance, annual information filing, and the authorization of the U.S. corporation to act as an agent for IRS summons purposes. These requirements allow IRS International examiners to better audit the returns of U.S. corporations engaged in crossborder transactions with a related party.

Respondents: Business or other for-profit, Individuals or households.

Estimated Number of Respondents: 63,000.

Estimated Burden Hours Per Respondent: 10 hours.

Frequency of Response: Annually.

Estimated Total Reporting Burden: 630,000 hours.

Clearance Officer: Glenn Kirkland, (202) 622-3428, Internal Revenue Service, Room 6411-03, 1111 Constitution Avenue, NW, Washington, DC 20224.

OMB Reviewer: Joseph F. Lackey, Jr., (202) 395-7316, Office of Management and Budget, Room 10235, New Executive Office Building, Washington, DC 20503.

Mary A. Able,
Departmental Reports Management Officer.

[FR Doc. 03-2992 Filed 2-6-03; 8:45 am]

BILLING CODE 4830-01-P